DEPARTMENT OF TRANSPORTATION

Federal Highway Administration

Funding Opportunity for the Department of Transportation's Nationally Significant Federal Lands and Tribal Projects Program for Fiscal Year 2018

AGENCY: Federal Highway Administration (FHWA), U.S. Department of Transportation (DOT).

ACTION: Notice of funding opportunity.

SUMMARY: This notice announces a funding opportunity and requests grant applications for the Nationally Significant Federal Lands and Tribal Projects (NSFLTP) Program. The Fixing America's Surface Transportation (FAST) Act established the NSFLTP Program to provide Federal funding to projects of national significance for construction, reconstruction, or rehabilitation of transportation facilities within, adjacent to, or providing access to Federal or Tribal lands. As per the Consolidated Appropriations Act, 2018, the Secretary of Transportation may award up to $300 million—the amount appropriated by Congress to the NSFLTP Program in the Department of Transportation Appropriations Act, 2018—through the FHWA's Office of Federal Lands Highway. The FHWA will distribute these funds as described in this notice on a competitive basis in a manner consistent with the selection criteria.

DATES: Applications will be accepted on a rolling basis and evaluated quarterly, until available funding has been exhausted. The first application deadline is December 17, 2018. After that, subsequent deadlines will be 11:59 p.m. on the last business day of the next fiscal quarter.

ADDRESSES: Applications must be submitted through Grants.gov. Refer to CFDA Number: 20.205, Highway Planning and Construction.

FOR FURTHER INFORMATION CONTACT: Jeffrey Mann, Office of Program Development, FHWA, Office of Federal Lands Highway, 21400 Ridgetop Circle, Sterling, VA 20166-6511, Telephone: 703-404-6230 or email: Jeffrey.Mann@dot.gov.

Scott Johnson, Office of Program Development, FHWA, Office of Federal Lands Highway, 21400 Ridgetop Circle, Sterling, VA 20166-6511, Telephone: 703-404-6231 or email: Scott.Johnson@dot.gov.

In addition, the FHWA will regularly post information about the NSFLTP Program on its website at https://flh.fhwa.dot.gov/programs/nsfltp/.

SUPPLEMENTARY INFORMATION: Each section of this notice contains information and instructions relevant to the application process for NSFLTP Program grants. The applicant should read this notice in its entirety to submit eligible and competitive applications.

Table of Contents

A. Program Description

B. Federal Award Information

C. Eligibility Information

1. Eligible Applicants

2. Cost Sharing and Matching

3. Other

D. Application and Submission Information

1. Address To Request Application

2. Content and Form of Application Submission

3. Dun and Bradstreet Universal Numbering System (DUNS) Number and System for Award Management (SAM)

4. Submission Dates and Timelines

5. Intergovernmental Review

6. Funding Restrictions

E. Application Review Information

F. Federal Award Administration Information

G. Federal Awarding Agency Contact(s)

H. Other Information

A. Program Description

The FAST Act, Public Law 114-94, section 1123, established the NSFLTP Program to fund projects to construct, reconstruct, or rehabilitate transportation facilities within, adjacent to, or accessing Federal and Tribal lands.

The NSFLTP Program provides an opportunity to address significant challenges across the Nation for transportation facilities that serve Federal and Tribal lands.

B. Federal Award Information

1. Amount Available—For FY 2018, the Secretary may award up to $300 million in grants on a competitive basis to Federal and Tribal lands projects of national significance that meet the requirements. The $300 million funding amount is based on the amount appropriated for the NSFLTP Program in the Department of Transportation Appropriations Act, 2018.

2. Award Size—The NSFLTP Program provides discretionary funding for projects that have an estimated construction cost of at least $25 million, with construction projects with an estimated cost equal to or exceeding $50 million receiving priority consideration in the selection process.

3. Availability of Funds—The funds provided for this program under the FY 2018 Appropriations Act are available until expended.

C. Eligibility Information

1. Eligible Applicants

a. Entities eligible to receive funds under the Federal Lands Access Program (23 United State Code (U.S.C.) 204), the Federal Lands Transportation Program (23 U.S.C. 203), the Tribal Transportation Program (23 U.S.C. 202), and the Federal Lands Planning Program (23 U.S.C. 201) may apply for funding under the NSFLTP Program, except that a State, county, or unit of local government may only apply for funding under the NSFLTP Program if sponsored by an eligible Federal land management agency (FLMA) or federally recognized Indian Tribe.

b. As sponsors, FLMAs and Tribes will provide quarterly a list of project applications they are sponsoring from their organization on behalf of State or local governments.

I. To promote effective communication and coordination, an FLMA or Tribe should identify one individual within their organization who will serve as Sponsorship Coordinator.

II. The Sponsorship Coordinator is responsible for providing the list of sponsored projects to the NSFLTP Program contacts listed on page 1 of this NOFO. The use of Grants.gov permits a wide range of eligible applicants to enter project applications. The Sponsorship Coordinator role ensures applications have been coordinated through and approved by FLMA and/or Tribal leaders.

III. The list of sponsored projects should provide enough detail so that FHWA can match the projects to those received via Grants.gov.

IV. A list of Sponsorship Coordinators can be obtained from the NSFLTP Program contacts listed on page 1 of this NOFO, or at the following website— https://flh.fhwa.dot.gov/programs/nsfltp/.

c. FLMAs and Tribes may sponsor applications on behalf of:

I. A State or group of States;

II. a metropolitan planning organization;

III. a unit of local government or group of local governments;

IV. a political subdivision of a State or local government;

V. a special purpose district or public authority with a transportation function, including a port authority;

VI. a group of FLMAs;

VII. a consortium of Tribal governments; or

VIII. a multi-State or multijurisdictional group of public entities.

d. Recipients of NSFLTP Program funding are responsible for meeting reporting requirements.

2. Cost Sharing and Matching

a. The Federal share of the cost of the project shall be up to 90 percent.

b. The non-Federal share shall not be less than 10 percent of the cost of the project and can be:

I. Any other Federal funds, as long as they were not authorized under title 23 or title 49, U.S.C.;

II. Any private or public source, as long as the source did not receive the funds through programs authorized under title 23 or title 49, U.S.C.; and

III. “Soft-matches” or “in-kind matches” (e.g., donations of funds, materials, services, right-of-way acquisition, utility relocation).

IV. Tapered matches are permissible to allow for greater flexibility. Tapered match is a form of Federal-aid matching flexibility that allows a project's Federal share to vary over the life of the project as long as the final contribution of Federal funds does not exceed the project's maximum authorized share. Indicate that a tapered match will be sought within the project narrative when describing how the non-Federal share will be funded.

c. The application and project agreement must document the match requirement and any related commitments.

3. Other

a. To meet the minimum statutory requirements for eligibility, a project must meet all of the following conditions:

b. The project is a single continuous project;

c. The project meets at least one of the following definitions of transportation facilities from section 101 of Title 23, U.S.C., except that such facilities are not required to be included in an inventory described in section 202 or 203 of such title:

I. “Federal lands transportation facility”, which means a public highway, road, bridge, trail, or transit system that is located on, is adjacent to, or provides access to Federal lands for which title and maintenance responsibility is vested in the Federal Government;

II. “Federal lands access transportation facility”, which means a public highway, road, bridge, trail, or transit system that is located on, is adjacent to, or provides access to Federal lands for which title or maintenance responsibility is vested in a State, county, town, township, tribal, municipal, or local government; or

III. “Tribal transportation facility”, which means a public highway, road, bridge, trail, or transit system that is located on or provides access to tribal land.

d. All activities required under the National Environmental Policy Act of 1969 (NEPA) (42 U.S.C. 4321 et seq.) demonstrate completion through:

I. A record of decision, if the NEPA class of action is an environmental impact statement;

II. A finding of no significant impact, if the NEPA class of action is an environmental assessment; or

III. A determination that the project is a categorical exclusion under the lead Federal agency's NEPA policies;

e. The project must have estimated construction costs, based on the results of preliminary engineering, equal to or greater than $25,000,000, with priority consideration for projects with estimated construction costs equal to or exceeding $50,000,000; and

f. The project will use NSFLTP Program funds only for construction, reconstruction, or rehabilitation of transportation facilities, i.e., project design costs are not eligible for NSFLTP Program funds.

D. Application and Submission Information

1. Address to Request Application—Applications must be submitted to Grants.gov.

2. Content and Form of Application Submission—Include in the application package the following:

a. Standard Form 424 (Application for Federal Assistance);

b. Standard Form 424C (Budget Information for Construction Programs);

c. Standard Form 424D (Assurances for Construction Programs);

d. A cover page, including the following chart:

Project name |
Previously Incurred Project Eligible Costs | $
Future Eligible Project Costs | $
Total Project Cost | $
NSFLTP Program Grant Request Amount | $
Federal (DOT) Funding including Program Funds Requested | $
Is the project within, adjacent to, or accessing Federal and/or Tribal land | Yes/No

e. A project narrative—The application must include information required for the FHWA to determine that the project satisfies the eligibility requirements described in Section IV above. The FHWA recommends the project narrative adhere to the following basic guidelines to clearly address the program requirements and make critical information readily apparent.

I. Project Description—Describe what activities the requested NSFLTP Program funds and matching funds will support, how the project is nationally significant based on authorized criteria and Secretary's objectives, information on the expected users of the project, a description of the transportation challenges the project aims to address, and how the project will address these challenges.

II. Project Location—Provide a detailed description of the location of proposed project and geospatial data for the project, as well as a map of the project's location and its connections to existing transportation infrastructure.

III. Project Parties—Provide information about who is involved and their respective roles in supporting the project.

IV. Grant Funds, Sources, and Uses of Project Funds—

i. Funding—Document the funding that will be used to construct this project, including past or pending Federal funding requests for this project. Include the size, nature, and source(s) of the required match for those funds, if applicable. Demonstrate that the requested NSFLTP Program funds do not exceed 90 percent of project costs.

ii. Budget—Provide a detailed project budget containing a breakdown of how the funds will be spent. The budget should estimate—by dollar amount and percentage of cost—the cost of construction work for each project component.

V. Project Readiness—Provide the expected start date, with supporting rationale for that date.

VI. To the extent practicable, provide data and evidence of project merits in a form that is verifiable or publicly available. The FHWA may ask any applicant to supplement data in its application, but expects applications to be complete upon submission.

VII. Include a table of contents, maps, and graphics, as appropriate, to make the information easier to review.

VIII. The FHWA recommends that the project narrative not exceed 10 pages, excluding supporting documentation, and be prepared with as a single-spaced document, using a standard 12-point font such as Times New Roman, with 1-inch margins.

IX. Provide website links to supporting documentation rather than copies of these supporting materials. If supporting documents are submitted, clearly identify the relevant portion of the project narrative that each document supports.

X. The FHWA recommends using appropriately descriptive names (e.g., “Project Narrative,” “Maps,” “Memoranda of Understanding and Letters of Support,” etc.) for all attachments.

3. Unique Entity Identifier and SAM—

a. Each applicant must:

I. Be registered in SAM before submitting its application;

II. provide a valid unique entity identifier in its application; and

III. continue to maintain an active SAM registration with current information at all times during which it has an active Federal award or an application or plan under consideration by a Federal awarding agency. The Department may not make a grant to an applicant until the applicant has complied with all applicable unique entity identifier and SAM requirements and, if an applicant has not fully complied with the requirements by the time the Department is ready to make a grant, the Department may determine that the applicant is not qualified to receive a grant and use that determination as a basis for making a grant to another applicant.

4. Submission Dates and Timelines—

a. Deadline—Applications will be accepted on a rolling basis and evaluated quarterly, until available funding has been exhausted. The application deadline will be 11:59 p.m. on the last business day of each fiscal quarter. The first application deadline is December 17, 2018. Subsequent, quarterly deadline dates include March 29, 2019, and June 28, 2019. It is possible for all funding to be awarded in the first round. Information regarding awards and available funding will be posted to the website cited on page 1 of this NOFO.

b. To submit an application through Grants.gov, applicants must:

I. Obtain a DUNS number;

II. Register with SAM at www.SAM.gov;

III. Create a Grants.gov username and password; and

IV. Respond to the registration email sent to the applicants E-Business Point of Contact (POC) from Grants.gov and login at Grants.gov to authorize the applicant as the Authorized Organization Representative (AOR).

c. Please note there can be more than one AOR for an organization. Applicants are encouraged to submit applications in advance of the application deadline; however, applications will not be evaluated, and awards will not be made until after the application deadline.

d. Please note the Grants.gov registration process usually takes 2-4 weeks to complete and the Department will not consider late applications that are the result of failure to register or comply with Grants.gov applicant requirements in a timely manner. For information and instruction on each of these processes, please see instructions at http://www.grants.gov/web/grants/applicants/applicant-faqs.html. If applicants experience difficulties at any point during the registration or application process, please call the Grants.gov Customer Service Support Hotline at 1(800) 518-4726, Monday-Friday from 7 a.m. to 9 p.m. EST.

e. Consideration of Applications—Only applicants who comply with all submission deadlines described in this notice and electronically submit valid, sponsor-approved applications through Grants.gov will be eligible for award. Applicants are strongly encouraged to make submissions in advance of deadlines.

f. Late Applications—Applications received after a quarterly deadline will be considered in the following fiscal quarter.

5. Intergovernmental Review—The NSFLTP Program is not subject to the Intergovernmental Review of Federal Programs.

6. Funding Restrictions—Developmental phase activities including planning, feasibility analysis, revenue forecasting, environmental review, preliminary engineering, design, and other preconstruction activities are not eligible for funding under the NSFLTP Program.

E. Application Review Information

The FHWA will award NSFLTP Program funds based on the selection criteria and policy considerations outlined below.

1. Statutory Criteria—In accordance with the FAST Act, section 1123, when selecting projects for funding under the NSFLTP Program, the FHWA will evaluate the extent to which the project:

a. Furthers the goals of DOT, including safety, state of good repair, economic competitiveness, and quality of life, by considering;

I. An analysis of the project's safety improvements compared to a baseline in which the project is not done. For more information, see Section 4.3, pages 13 through 15, of the DOT's Benefit-Cost Analysis Guidance for TIGER and INFRA Applications, https://cms.dot.gov/sites/dot.gov/files/docs/mission/office-policy/transportation-policy/284031/benefit-cost-analysis-guidance-2017_1.pdf.

II. Technical data provided about existing facilities in poor repair or, where the project is new construction, the extent to which the existing conditions demonstrate a need for new transportation facilities;

III. An analysis of the project's economic benefits—such as travel time savings, and vehicle operating cost savings, and emissions reductions—compared to a baseline in which the project is not done. For more information on what impacts are considered economic benefits and how to estimate the value of such effects, see section 4 of the Department's guidance on benefit-cost analysis. Where values cannot be monetized, provide other quantitative or qualitative information.

IV. How the project is expected to improve the quality of life for a local community and/or the traveling public, providing data and analysis where relevant and feasible, such as estimates of trips and/or vehicle miles traveled.

b. Improves the condition of critical transportation facilities, including multimodal facilities, by considering the requirements the applicant communicates in the application. Examples may include but are not limited to: A bridge in poor condition that may be subject to closure in the absence of funds; primary transportation facility that provides access to critical community services, high use recreation destination areas and/or economic generators within Tribal and/or Federal lands.

c. Needs construction, reconstruction, or rehabilitation;

d. Has costs matched by funds that are not provided under the NSFLTP Program or titles 23 or 49 by giving preference to;

I. Projects with over 30 percent in non-NSFLTP Program funding, with additional preference given to projects that exceed even this threshold; followed by

II. Projects with between 20 percent and 30 percent in non-NSFLTP Program funding; followed by

III. Projects with between 10 percent and 19 percent in non-NSFLTP Program funding; followed by

IV. Projects with the minimum 10 percent in non-NSFLTP Program funding;

e. Is included in or eligible for inclusion in the National Register of Historic Places;

f. Uses new technologies and innovations that enhance the efficiency of the project;

g. Is supported by funds, other than funds received under the NSFLTP Program, to construct, maintain, and operate the facility, by considering what other funds exist, besides those available for match, to aid in maintenance and operation of the facility, as well as the reasonable expectation that those funds will remain available;

h. Spans two or more States; and

i. Serves land owned by multiple Federal agencies or Indian Tribes.

2. Departmental criteria—After applying the above preferences, the Federal Highway Administrator will take into account the following key Departmental objectives:

a. Using innovative approaches to improve safety and expedite project delivery;

b. Supporting economic vitality at the national and regional level;

c. Utilizing alternative funding sources and innovative financing models to attract non-Federal sources of infrastructure investment;

d. Accounting for the life-cycle costs of the project to promote the state of good repair; and

e. Beginning projects in a timely manner after award of NSFLTP Program funding.

3. Review and Selection Process—The FHWA will review all eligible applications received within a fiscal quarter. The review and selection process will consist of a Technical Review and Senior Review.

a. Technical Review—In the Technical Review, a team comprising technical staff from FHWA will review all eligible applications and rate each project's alignment with the selection criteria, using the following guidelines.

I. Highly Recommended—The project aligns extremely well with the objectives of the selection statutory criteria under consideration. Projects with several criteria rated as “Strong Alignment” are likely to receive this rating, as well as projects that have “Alignment” with all of the statutory criteria.

II. Recommended—The project aligns well with the objectives of the selection criterion. Projects with at least one criteria rated as “Strong Alignment” or that have “Alignment” with most of the statutory criteria are likely to receive this rating.

III. Acceptable—The project somewhat aligns well with the objectives of the selection criterion under consideration. Projects with no criteria rated as “Strong Alignment” but with a several criteria rated as “Alignment” are likely to receive this rating.

IV. Not Recommended—The project does not align well with objectives of the selection criterion under consideration.

b. The Senior Review Team, comprised of senior leadership from FHWA, will determine which projects rated as Acceptable and higher by the Technical Review Team to advance to the Secretary.

4. The final funding decisions will be made by the Secretary of Transportation.

5. Additional Information—Prior to award, each selected applicant will be subject to a risk assessment required by 2 CFR 200.205. The Department must review and consider any information about the applicant that is in the designated integrity and performance system accessible through SAM, currently the Federal Awardee Performance and Integrity Information System (FAPIIS). An applicant may review information in FAPIIS and comment on any information about itself. The Department will consider comments by the applicant in addition to the other information in FAPIIS, in making a judgment about the applicant's integrity, business ethics, and record of performance under Federal awards when completing the review of risk posed by applicants.

F. Federal Award Administration Information

1. Federal Award Notices—The FHWA will announce awarded projects by posting a list of selected projects at https://flh.fhwa.dot.gov/programs/nsfltp/. Following the announcement, the FHWA will contact the POC listed in form SF-424 to initiate negotiation of a project-specific agreement.

2. Administrative and National Policy Requirements—All awards will be administered pursuant to the Uniform Administrative Requirements, Cost Principles and Audit Requirements for Federal Awards found in 2 CFR part 200, as adopted by DOT at 2 CFR part 1201. In addition, applicable Federal laws, rules and regulations of the FHWA will apply to the projects that receive NSFLTP Program funds, including planning requirements, agreements, Buy America compliance, and other grant program requirements.

3. Reporting—Each recipient of NSFLTP Program funding must submit the Federal Financial Report (SF-425) on the financial condition of the project and the project's progress bi-annually, as well as an Annual Budget Review and Program Plan to monitor the use of Federal funds and ensure accountability and financial transparency in the NSFLTP Program. The FHWA reserves the right to request additional information, if deemed needed, to better understand the status of the project.

4. Reporting Matters Related to Integrity and Performance—If the total value of a selected recipient's currently active grants, cooperative agreements, and procurement contracts from all Federal awarding agencies exceeds $10,000,000 for any period of time during the period of performance of this Federal award, then the applicant during that period of time must maintain the information reported to SAM and FAPIIS, about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

G. Federal Awarding Agency Contact(s)

For further information concerning this notice please contact:

1. Jeffrey Mann, NSFLTP Program Manager, via email at jeffrey.mann@dot.gov; by telephone at 202-366-9494; Office hours are from 7 a.m. to 3:30 p.m. EDT., Monday through Friday, except Federal holidays.

2. Scott Johnson, Director Office of Program Development, via email at scott.johnson@dot.gov; by phone at 202-366-9494; Office hours are from 7 a.m. to 3:30 p.m. EDT., Monday through Friday, except Federal holidays.

3. Both can also be reached by mail at Federal Highway Administration, 1200 New Jersey Avenue SE, Washington, DC 20590.

4. For legal questions, please contact Ms. Vivian Philbin, Office of the Chief Counsel, by telephone at (720) 963-3445; by email at vivian.philbin@dot.gov; or by mail at Federal Highway Administration, Central Federal Lands Highway Division, 12300 West Dakota Avenue, Lakewood, CO 80228. Office hours are from 7:30 a.m. to 4 p.m. MDT., Monday through Friday, except Federal holidays.

H. Other Information

1. Protection of Confidential Business Information—All information submitted as part of or in support of any application shall use publicly available data or data that can be made public and methods that are accepted by industry practice and standards, to the extent possible. If the application includes information the applicant considers to be a trade secret or confidential commercial or financial information, the applicant should do the following: (1) Note on the front cover that the submission “Contains Confidential Business Information (CBI)”; (2) mark each affected page “CBI”; and (3) highlight or otherwise denote the CBI portions. The FHWA protects such information from disclosure to the extent allowed under applicable law. In the event FHWA receives a Freedom of Information Act (FOIA) request for the information, FHWA will follow DOT procedures described in its FOIA regulations at 49 CFR 7.17. Only information that is ultimately determined to be confidential under that procedure will be exempt from disclosure under FOIA.

Authority: Section 1123 of Public Law 114-94.

Issued on: October 1, 2018.
Brandye L. Hendrickson,
Deputy Administrator.

[FR Doc. 2018-21826 Filed 10-3-18; 4:15 pm]

BILLING CODE 4910-22-P